COMMITTEE FOR PURCHASE FROM PEOPLE WHO ARE BLIND OR SEVERELY DISABLED

Procurement List; Additions and Deletions

AGENCY: Committee for Purchase From People Who Are Blind or Severely Disabled.

ACTION: Additions to the Procurement List.

SUMMARY: This action adds product(s) and service(s) to the Procurement List that will be furnished by nonprofit agencies employing persons who are blind or have other severe disabilities.

DATES: Date added to the Procurement List: March 5, 2023.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Additions

On 6/17/2022 and 9/30/2022, the Committee for Purchase From People Who Are Blind or Severely Disabled published notice of proposed additions to the Procurement List. This notice is published pursuant to 41 U.S.C. 8503(a)(2) and 41 CFR 51-2.3.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) and service(s) are added to the Procurement List:

Product(s)

NSN(s)—Product Name(s):

7025-00-NIB-0015—Universal Docking Station, Thunderbolt 3 and USB-C, Dual 4K, Windows and Mac, with Mounting Bracket

7025-00-NIB-0014—Universal Docking Station, USB-C and USB 3.0, Dual 2K, Windows and Mac, with Mounting Bracket

Designated Source of Supply: Chicago Lighthouse Industries, Chicago, IL

Contracting Activity: FEDERAL ACQUISITION SERVICE, GSA/FAS FURNITURE SYSTEMS MGT DIV

Distribution: A-List

Service(s)

Service Type: Custodial Service

Mandatory for: US Air Force, Software Engineering Group, Warner Robins, GA

Designated Source of Supply: Good Vocations, Inc., Macon, GA

Contracting Activity: DEPT OF THE AIR FORCE, FA8533 AFLCMC WNKABB

The Committee finds good cause to dispense with the 30-day delay in the effective date normally required by the Administrative Procedure Act. See 5 U.S.C. 553(d). This addition to the Committee's Procurement List is effectuated because of the expiration of the U.S. Air Force, Software Engineering Group Custodial Service at Warner Robins, GA contract. The Federal customer contacted and has worked diligently with the AbilityOne Program to fulfill this service need under the AbilityOne Program. To avoid performance disruption, and the possibility that the Federal Aviation Administration will refer its business elsewhere, this addition must be effective on February 13, 2023, ensuring timely execution for a February 15, 2023, start date while still allowing 10 days for comment. The Committee also published a notice of proposed Procurement List addition in the Federal Register on September 30, 2022 and did not receive any comments from any interested persons. This addition will not create a public hardship and has limited effect on the public at large, but, rather, will create new jobs for other affected parties—people with significant disabilities in the AbilityOne program who otherwise face challenges locating employment. Moreover, this addition will enable Federal customer operations to continue without interruption.

Michael R. Jurkowski,
Acting Director, Business Operations.

[FR Doc. 2023-02297 Filed 2-2-23; 8:45 am]

BILLING CODE 6353-01-P